DEPARTMENT OF JUSTICE

Notice of Lodging of Consent Decree Under the Comprehensive Environmental Response, Compensation, and Liability Act

Pursuant to Department of Justice policy, notice is hereby given that on December 1, 2010 a proposed Consent Decree with Brown County and the City of Green Bay was lodged with the United States District Court for the Eastern District of Wisconsin in a case captioned United States and the State of Wisconsin v. NCR Corp., et al., Case No. 10-C-910 (E.D. Wis.). The Complaint in that case alleges claims under the Comprehensive Environmental Response, Compensation, and Liability Act (“CERCLA”), 42 U.S.C. 9601-75, against Brown County, the City of Green Bay, and twelve other defendants concerning polychlorinated biphenyl contamination at the Lower Fox River and Green Bay Superfund Site in northeastern Wisconsin (the “Site”).

If approved by the Court after a public comment period, the proposed Consent Decree would resolve Brown County's and the City of Green Bay's potential liability for response costs, response actions, and natural resource damages associated with the Site, on the terms and conditions set forth in the Decree. The proposed Consent Decree also would resolve the United States Government's potential liability for response costs, response actions, and natural resource damages associated with the Site under CERCLA. Under the proposed Consent Decree, Brown County, Green Bay, and the United States would pay a total of $5.2 million ($350,000 each from Brown County and Green Bay and $4.5 million from the United States). If the Decree is approved, the $5.2 million would be paid into a set of Site-specific special accounts for use in financing future cleanup and natural resource restoration work at the Site.

The Department of Justice will receive comments relating to the Consent Decree for a period of thirty (30) days from the date of this publication. Comments should be addressed to the Assistant Attorney General, Environment and Natural Resources Division, and mailed either electronically to pubcomment-ees.enrd@usdoj.gov or in hard copy to P.O. Box 7611, U.S. Department of Justice, Washington, DC 20044-7611. Comments should refer to United States and the State of Wisconsin v. NCR Corp., et al., Case No. 10-C-910 (E.D. Wis.) and D.J. Ref. No. 90-11-2-1045/3.

The Consent Decree may be examined at: (1) The offices of the United States Attorney, 517 E. Wisconsin Avenue, Room 530, Milwaukee, Wisconsin; and (2) the offices of the U.S. Environmental Protection Agency, 77 West Jackson Boulevard, 14th Floor, Chicago, Illinois. During the public comment period, the Consent Decree may also be examined on the following Department of Justice Web site: http://www.usdoj.gov/enrd/Consent_Decrees.html. A copy of the Consent Decree may also be obtained by mail from the Department of Justice Consent Decree Library, P.O. Box 7611, Washington, DC 20044-7611 or by faxing or e-mailing a request to Tonia Fleetwood (tonia.fleetwood@usdoj.gov), fax no. (202) 514-0097, phone confirmation number (202) 514-1547. In requesting a copy from the Consent Decree Library, please enclose a check in the amount of $11.00 (44 pages at 25 cents per page reproduction cost) payable to the U.S. Treasury.

Maureen M. Katz,
Assistant Chief, Environmental Enforcement Section, Environment and Natural Resources Division.

[FR Doc. 2010-30572 Filed 12-6-10; 8:45 am]

BILLING CODE 4410-15-P